DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by November 6, 2002.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

PRT-016881

Applicant: Hawthorn Corporation, Grayslake, Illinois

The applicant requests a permit to export , re-export, and re-import captive-born tigers (Panthera tigris) and future progeny born outside of the United States currently held by the applicant and any animals acquired in the United States by the applicant to/from worldwide locations to enhance the survival of the species through conservation education. This notification covers activities conducted by the applicant over a three year period.

PRT-062075

Applicant: The Hawthorn Corporation, Grayslake, IL

The applicant requests a permit to export , re-export, and re-import captive-born tigers (Panthera tigris) and future progeny born outside of the United States currently held by the applicant and any animals acquired in the United States by the applicant to/from worldwide locations to enhance the survival of the species through conservation education. This notification covers activities conducted by the applicant over a three year period.

PRT-062056

Applicant: Columbus Zoo and Aquarium, Powell, Ohio

The applicant requests a permit to transfer from the Miami Metro Zoo, Miami, Florida to the Columbus Zoo And Aquarium, Powell, Ohio, live Komodo island monitors (Varanus komodoensis) for the purpose of enhancement of the survival of the species through conservation for a period of five years.

PRT-050415

Applicant: Big Game Alaska Inc, Portage Glacier, AK

The applicant requests a permit to import 5 live captive-born wood bison from LaPrarie Woodland Bison Ranch Whitehorse, Yukon Territory, Canada, for the purpose of enhancement of the survival of the species through propagation.

PRT-058654

Applicant: Oregon Graduate Institute, Beaverton, OR

The applicant requests a permit to import biological samples (trunk mucus) taken from two captive held Asian elephants (Elephas maximus) that were born in the wild. The elephants are current residents of the Auckland Zoo, Auckland, New Zealand, their samples will be used for scientific research purposes. This notification covers activities conducted by the applicant for a five-year period.

PRT-058905

Applicant: Oregon Graduate Institute, Beaverton, OR

The applicant requests a permit to export and re-import non-living museum specimens of endangered and threatened species of plants and animals previously accessioned into the permittee's collection for scientific research. This notification covers activities conducted by the applicant for a five year period.

Marine Mammals

The public is invited to comment on the following application(s) for a permit to conduct certain activities with marine mammals. The application(s) was submitted to satisfy requirements of the Marine Mammal Protection Act of 1972, as amended (16 U.S.C. 1361 et seq.) and the regulations governing marine mammals (50 CFR Part 18). Written data, comments, or requests for copies of the complete applications or requests for a public hearing on these applications should be submitted to the Director (address above). Anyone requesting a hearing should give specific reasons why a hearing would be appropriate. The holding of such a hearing is at the discretion of the Director.

PRT-061116

Applicant: James L. Scull, Jr., Rapid City, SD

The applicant requests a permit to import a polar bear (Ursus maritimus) sport hunted from the Lancaster Sound polar bear population in Canada for personal use.

The U.S. Fish and Wildlife Service has information collection approval from OMB through March 31, 2004, OMB Control Number 1018-0093. Federal Agencies may not conduct or sponsor and a person is not required to respond to a collection of information unless it displays a current valid OMB control number.

Dated: September 27, 2002.
Charles S. Hamilton,
Senior Permit Biologist, Branch of Permits, Division of Management Authority.

[FR Doc. 02-25383 Filed 10-4-02; 8:45 am]

BILLING CODE 4310-55-P